DEPARTMENT OF THE INTERIOR

National Park Service

River Raisin National Battlefield Park, MI ; Account Number: 6495

AGENCY: National Park Service, Department of the Interior.

ACTION: Notification of a New National Park, River Raisin National Battlefield Park.

SUMMARY: As authorized by Section 7003 of the Omnibus Public Land Management Act of 2009, Public Law 111-11 (codified at 16 U.S.C. 430vv), the National Park Service (NPS) announces the Secretary of the Interior (Secretary) has designated acquired lands related to the Battles of River Raisin on January 18-22, 1813, as a unit of the National Park System to be known as the River Raisin National Battlefield Park.

SUPPLEMENTARY INFORMATION: Section 7003 of the Omnibus Public Land Management Act of 2009 (Pub. L. 111-11) includes specific provisions relating to establishment of this unit of the National Park System as follows:

a. If Monroe County or Wayne County, or other willing landowners in either county offer to donate to the United States lands relating to the Battles of River Raisin on January 18 and 22, 1813, or the aftermath of the battles, the Secretary of the Interior shall accept the donated land.

b. On the acquisition of land that is of sufficient acreage to permit efficient administration, the Secretary shall designate the acquired land as a unit of the National Park System to be known as the River Raisin National Battlefield Park.

The County of Monroe, the City of Monroe, and the Monroe County Port Authority donated land, including one improvement and the personal property therein, to the Federal Government on October 12, 2010, with a transfer of deeds. The Secretary has determined that the donation of these lands represents sufficient acreage to permit efficient management as a unit of the National Park System to be known as the River Raisin National Battlefield Park. This park is now a unit of the National Park System and subject to all laws, regulations and policy pertaining to such units.

FOR FURTHER INFORMATION CONTACT: Nick Chevance, Midwest Regional Office, at (402) 661-1844.

Dated: October 26, 2010.
Daniel N. Wenk,
Deputy Director, Operations.

[FR Doc. 2010-28427 Filed 11-9-10; 8:45 am]

BILLING CODE 4312-51-P